DEPARTMENT OF HEALTH AND HUMAN SERVICES

Administration for Children and Families

Proposed Information Collection Activity; Comment Request

Proposed Projects

Title: Income Withholding Order/Notice for Support (IWO).

OMB No.: 0970-0154.

Description: Statutory requirements under subsections 466(a)(1), (a)(8) and 466(b)(6) of the Social Security Act require the use of the Income Withholding for Support (IWO) form in all child support cases. The form must be used by child support agencies, courts, tribes, private attorneys and other entities when ordering or sending notices to withhold. 42 U.S.C 666(a)(1) and (8); 42 U.S.C 666(b)(6).

The Income Withholding for Support (IWO) form previously approved by the Office of Management and Budget has been modified to address items identified by states and employers/income withholders. The title of the form is changed to Income Withholding Order/Notice for Support (IWO) to correspond to the first line of the form. The blank box for court use is removed and text shifted to make better use of available space. Language is inserted to explain that provisions of the Consumer Credit Protection Act (CCPA) apply only to employees and not to independent contractors. A header with case-identifying information is added on Page Two and a Social Security Number on Page Three to place case-identifying information on each page and allow future automated improvements for employers and states. Clarifications are added to the Instructions emphasizing that each IWO should represent the information for only one case, as defined in the Code of Federal Regulations.

Respondents: Not applicable.

Annual Burden Estimates
Reporting requirement | Number of respondents | Number of responses per respondent | Annual number of responses | Average burden hours per response | Total burden hours
Employers | 1,283,965 | 7.44 | 9,552,699.60 | 2 minutes | 318,423
Non-IV-D CPs | 2,436,312 | 1.00 | 2,436,312.00 | 5 minutes | 203,026
e IWO Employers | 4,763 | 131.75 | 627,525.25 | 3 seconds | 523
Total | 3,721,508 |  | 12,052,319 |  | 521,449

Estimated Total Annual Burden Hours: 521,449

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. Email address: infocollection@acf.hhs.gov. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2013-17331 Filed 7-18-13; 8:45 am]

BILLING CODE 4184-01-P